DEPARTMENT OF THE INTERIOR

National Park Service

[2253-665]

Notice of Inventory Completion: Bureau of Land Management, Casper Field Office, Casper, WY, and University of Wyoming, Laramie, WY

AGENCY: National Park Service, Interior.

ACTION: Notice.

SUMMARY: The U.S. Department of the Interior, Bureau of Land Management, Casper Field Office, has completed an inventory of human remains, in consultation with the appropriate Indian Tribes, and has determined that there is no cultural affiliation between the remains and any present-day Tribe. Representatives of any Indian Tribe that believes itself to be culturally affiliated with the human remains may contact the Bureau of Land Management, Casper Field Office. Disposition of the human remains to the Indian Tribe stated below may occur if no additional requestors come forward.

DATES: Representatives of any Indian Tribe that believes it has a cultural affiliation with the human remains should contact the Bureau of Land Management, Casper Field Office, at the address below by April 14, 2011.

ADDRESSES: Ranel Stephenson Capron, Bureau of Land Management, Wyoming State Office (930), 5353 Yellowstone Rd., Cheyenne, WY 82009, telephone at (307) 775-6108 or e-mail Ranel_Capron@blm.gov.

SUPPLEMENTARY INFORMATION: Notice is here given in accordance with provisions of the Native American Graves Protection and Repatriation Act (NAGPRA), 25 U.S.C. 3003, of the completion of an inventory of Native American human remains in the control of the U.S. Department of the Interior, Bureau of Land Management, Casper Field Office, WY, and in the possession of the University of Wyoming, Human Remains Repository, Laramie, WY. The human remains were removed from two adjoining sites (48GA07 and 48GA48), in Goshen County, WY.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of human remains was made by Bureau of Land Management professional staff in consultation with representatives of the Arapahoe Tribe of the Wind River Reservation, Wyoming; Assiniboine and Sioux Tribes of the Fort Peck Indian Reservation, Montana; Cheyenne and Arapaho Tribes, Oklahoma; Crow Tribe of Montana; Northern Cheyenne Tribe of the Northern Cheyenne Indian Reservation, Montana; Rosebud Sioux Tribe of the Rosebud Indian Reservation, South Dakota; and the Ute Indian Tribe of the Uintah & Ouray Reservation, Utah (hereinafter referred to as “The Tribes”). In addition, The Tribes have nominated and do not object to the Arapahoe Tribe of the Wind River Reservation, Wyoming, as the lead contact for disposition of the human remains.

History and Description of the Remains

In 1963, human remains representing a minimum of nine individuals were removed from the Huntley-Table Mountain Site (48GO07), in Goshen County, WY. Numerous human skeletons were discovered during construction of a waterfowl pond by the Wyoming State Game and Fish Department, four miles west of Huntley, WY. The individuals were apparently buried close to each other in shallow graves or laid on the ground and covered with dirt in what may have been a mound-like configuration. Over 40 carloads of interested townspeople and souvenir collectors from as far away as Cheyenne, WY, and Scottsbluff, NE, converged upon the site almost immediately after the bones were discovered, taking human skeletal remains and grave goods. On September 23, 1963, Dr. William Mulloy, University of Wyoming Anthropologist, and Dr. Paul McGrew, University of Wyoming Paleontologist, collected fragments of seven individuals that had been left by vandals. The general assemblage is highly fragmented, and includes the remains of three adult females, two adult males, one indeterminate adult, and one child. Subsequently in 1963, a skull from an adult male was given to Dr. Mulloy by Ted Miller of Gering, NE, which had been removed from the site. In 1994, additional fragmentary bone representing a minimum of one individual that had been collected from the site in 1963, was brought by Grant Willson of Cheyenne, WY, to the university. The human remains are curated at the University of Wyoming Human Remains Repository. No known individuals were identified. No associated funerary objects are present.

In 1963, human remains representing a minimum of one individual were removed from the Table Mountain Fence Site (48GO48), in Goshen County, WY. The remains, which consist of a skull, were found and collected by Grant Willson of Cheyenne, WY, while hiking in the vicinity of the Huntley-Table Mountain burial site. Willson gave the skull to Dr. George Gill, University of Wyoming Anthropologist, who brought it to the university in 1986. The human remains are curated at the University of Wyoming Human Remains Repository. No known individual was identified. No associated funerary objects are present.

Determinations Made by the Bureau of Land Management, Casper Field Office

Officials of the Bureau of Land Management, Casper Field Office, have determined that:

• Pursuant to 25 U.S.C. 3001(9), the human remains represent 10 individuals of Native American ancestry, based on archeological and radiocarbon evidence. However, based on this information and other available lines of evidence, a relationship of shared group identity can not be reasonably traced to any specific Federally-recognized Indian Tribe.

• The Native American human remains were removed from the land determined to be the aboriginal land of the Arapahoe Tribe of the Wind River Reservation, Wyoming; Cheyenne and Arapaho Tribes, Oklahoma; and Northern Cheyenne Tribe of the Northern Cheyenne Indian Reservation, Montana, according to the Indian Claims Commission Docket 329A-D, and illustrated on the “Indian Land Areas Judicially Established,” prepared by the United States Geological Survey in 1989, which is based on information provided by the Indian Claims Commission.

• Pursuant to 25 U.S.C. 3001(2), a relationship of shared group identity cannot be reasonably traced between the Native American human remains and any present-day Indian Tribe.

• Pursuant to 43 CFR 10.11(c)(1), the disposition is to the Arapahoe Tribe of the Wind River Reservation, Wyoming.

Additional Requestors and Disposition

Representatives of any Indian Tribe that believes itself to be culturally affiliated with the human remains or any other Indian Tribe that believes it satisfies the criteria in 43 CFR 10.11(c)(1) should contact Ranel Stephenson Capron, Bureau of Land Management, Wyoming State Office (930), 5353 Yellowstone Rd., Cheyenne, WY 82009, telephone at (307) 775-6108 or e-mail Ranel_Capron@blm.gov, before April 14, 2011. Disposition of the human remains to the Arapahoe Tribe of the Wind River Reservation, Wyoming, may proceed after that date and if no additional claimants come forward.

The Bureau of Land Management is responsible for notifying The Tribes that this notice has been published.

Dated: March 9, 2011.
Sherry Hutt,
Manager, National NAGPRA Program.

[FR Doc. 2011-5861 Filed 3-14-11; 8:45 am]

BILLING CODE 4312-50-P